DEPARTMENT OF JUSTICE

Notice of Lodging of Consent Decree Pursuant to the Comprehensive Environmental Response, Compensation, and Liability Act

Notice is hereby given that on June 28, 2000, a proposed Partial Consent Decree in United States v. Michael P. Eason, et al., Civil Action Number 98-2859 G V, was lodged with the United States District Court for the Western District of Tennessee.

In this action the United States sought recovery of costs incurred by the United States Environmental Protection Agency, in connection with responding to the release and threatened release of hazardous substances at the Memphis Container Site (aka Tri-State Drum Site) (“the Site”), located at 1761 Warford Road, Memphis, Shelby County, Tennessee. The Partial Consent Decree resolves certain claims pursuant to section 107 of the Comprehensive Environmental Response, Compensation, and Liability Act, 42 U.S.C. 9607, against defendant Lucille Ryan. Under the proposed Partial Consent Decree, defendant Lucille Ryan will pay $55,000 to the United States for past response costs, plus an additional $20,000 more within two years from the proceeds of the sale of the site property as required by the Consent Decree. The proposed consent decree includes a covenant not to sue by the United Staates under section, 106 and 107 of CERCLA, 42 U.S.C. 9606 and 9607, for the entire Site, including all past and future costs.

The Department of Justice will receive, for a period of thirty (30) days from the date of this publication, comments relating to the proposed Partial Consent Decree. Comments should be addressed to the Assistant Attorney General for the Environment and Natural Resources Division, Department of Justice, P.O. Box 7611, Washington, DC 20044-7611, and should refer to the United States v. Michael P. Eason, et al., D.J. Ref. 90-11-2-1352.

The proposed Partial Consent Decree may be examined at the office of the United States Attorney, Western District of Tennessee, Suite 800, 167 North Main Street, Memphis, Tennessee 38103, or at U.S. EPA Region 4, Atlanta Federal Center, 61 Forsyth Street, SW., Atlanta, GA 30303. A copy of the proposed Consent Decree may also be obtained by mail from the Consent Decree Library, Department of Justice, P.O. Box 7611, Washington, DC 20044-7611. In requesting copies please refer to the referenced case and enclose a check in the amount of $7.25 (25 cents per pages reproduction costs), payable to the Consent Decree Library.

Joel M. Gross,
Chief, Environmental Enforcement Section, Environment and Natural Resources Division.

[FR Doc. 00-17530 Filed 7-11-00; 8:45 am]

BILLING CODE 4410-15-M